DEPARTMENT OF AGRICULTURE

Animal and Plant Health Inspection Service

[Docket No. APHIS-2026-0133]

Revision to and Extension of Approval of an Information Collection; 7 CFR Part 340; Introduction of Organisms and Products Altered or Produced Through Genetic Engineering

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the introduction of organisms and products altered or produced through genetic engineering.

DATES: We will consider all comments that we receive on or before April 27, 2026.

ADDRESSES: You may submit comments by either of the following methods:

• Federal eRulemaking Portal: Go to http://www.regulations.gov. Enter APHIS-2026-0133 in the Search field. Select the Documents tab, then select the Comment button in the list of documents.

• Postal Mail/Commercial Delivery: Please send one copy of your comment to Docket No. APHIS-2026-0133, Regulatory Analysis and Development, PPD, APHIS, 5601 Sunnyside Ave., #AP760, Beltsville, MD 20705.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information regarding the movement of organisms modified or produced through genetic engineering, contact Mrs. Chessa Huff-Woodard, Branch Chief, APHIS, Biotechnology Regulatory Services, 5601 Sunnyside Ave., Beltsville, MD 20705; chessa.d.huff-woodard@usda.gov; 301-851-3943. For information on the information collection process, contact Ms. Sheniqua Harris, APHIS' Paperwork Reduction Act Coordinator, at (301) 851-2528 or email: APHIS.PRA@usda.gov.

SUPPLEMENTARY INFORMATION:

Title: 7 CFR part 340; Introduction of Organisms and Products Altered or Produced Through Genetic Engineering.

OMB Control Number: 0579-0085.

Type of Request: Revision to and extension of approval of an information collection.

Abstract: Under the Plant Protection Act (PPA, 7 U.S.C. 7703, et seq.), the Secretary of Agriculture is authorized to prohibit or restrict the importation, entry, or movement for interstate commerce of any plant, plant product, biological control organism, noxious weed, article, or means of conveyance if the Secretary determines that the prohibition or restriction is necessary to prevent the introduction or the dissemination of a plant pest into the United States.

Under this authority, the U.S. Department of Agriculture's Animal and Plant Health Inspection Service (APHIS) has established regulations in 7 CFR part 340, “Introduction of Organisms and Products Altered or Produced Through Genetic Engineering Which Are Plant Pests or Which There is Reason to Believe Are Plant Pests” that govern the introduction (importation, interstate movement, or release into the environment) of covered organisms modified or produced through genetic engineering. A permit must be obtained before an organism subject to the regulations may be introduced. The regulations set forth the permit application requirements for the movement of an organism subject to the regulations and necessitate certain information collection activities, such as notifications; permit applications; permit appeals; petitions to deregulate a regulated organism; marking and labeling of containers; and maintaining records.

Several activities previously reported under this information collection, Office of Management and Budget (OMB) control number 0579-0085, are being discontinued or replaced with those now listed above. This change in activities is based on the vacatur of the final rule that APHIS published in the Federal Register on May 18, 2020 (85 FR 29790-29838, Docket No. APHIS-2018-0034 ¹). Activities being discontinued include confirmation letters and regulatory status reviews. Activities being reinstated include notifications, field test reporting, and petitions.

¹ To view the final rule and the vacatur, go to www.regulations.gov and enter APHIS-2018-0034 in the Search field.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility and clarity of the information to be collected; and

(4) Minimize the burden of the collection of information on those who are to respond, through use, as appropriate, of automated, electronic, mechanical, and other collection technologies; e.g., permitting electronic submission of responses.

Estimate of burden: The public burden for this collection of information is estimated to be 1.64 per response.

Respondents: Applicants from agricultural companies; applicants from academic institutions and foundations.

Estimated annual number of respondents: 554.

Estimated annual number of responses per respondent: 19.

Estimated annual number of responses: 10,294.

Estimated total annual burden on respondents: 16,907 hours. (Due to averaging, the total annual burden hours may not equal the product of the annual number of responses multiplied by the reporting burden per response.)

All responses to this notice will be summarized and included in the request for OMB approval. All comments will also become a matter of public record.

Done in Washington, DC, this 23rd day of February 2026.
Kelly Moore,
Acting Administrator, Animal and Plant Health Inspection Service.

[FR Doc. 2026-03859 Filed 2-25-26; 8:45 am]

BILLING CODE 3410-34-P